DEPARTMENT OF THE INTERIOR

Fish and Wildlife Service

[FWS-HQ-LE-2021-N214; FF09L00000/FX/LE18110900000/212; OMB Control Number 1018-0092]

Agency Information Collection Activities; Submission to the Office of Management and Budget; Federal Fish and Wildlife Applications and Reports—Law Enforcement

AGENCY: Fish and Wildlife Service, Interior.

ACTION: Notice of information collection; request for comment.

SUMMARY: In accordance with the Paperwork Reduction Act of 1995, we, the U.S. Fish and Wildlife Service (Service), are proposing to renew an information collection with revisions.

DATES: Interested persons are invited to submit comments on or before March 18, 2022.

ADDRESSES: Send your comments on the information collection request (ICR) within 30 days of publication of this notice to www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference Office of Management and Budget (OMB) Control Number 1018-0092 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On September 27, 2021, we published in the Federal Register (86 FR 53337) a notice of our intent to request that OMB approve this information collection. In that notice, we solicited comments for 60 days, ending on November 26, 2021. In an effort to increase public awareness of, and participation in, our public commenting processes associated with information collection requests, the Service also published the Federal Register notice on Regulations.gov (Docket FWS-HQ-LE-2021-0109) to provide the public with an additional method to submit comments (in addition to the typical Info_Coll@fws.gov email and U.S. mail submission methods). We received the following comments in response to that notice:

Comment 1: Comment received electronically via Regulations.gov (Comment ID: FWS-HQ-LE-2021-0109-0002) from Jean Publieee on September 26, 2021: The commenter suggested public scrutiny as part of the process to allow a person to trade in wildlife, and alleged that criminals were taking advantage of the wildlife and profiting from the process. The commentor referenced a 2017 case of illegal export.

Agency Response to Comment 1: The commenter did not address the information collections, but rather addresses important aspects of the enforcement process. The public scrutiny of applications recommendation is not a feasible element of the permitting regulations process. This request is specific to the application process for permits to allow a person to trade in wildlife, while there is a separate process by the Office of Law Enforcement to document violations.

Comment 2: Comment received electronically via Regulations.gov (Comment ID: FWS-HQ-LE-2021-0109-0003) from Jean Publieee on September 26, 2021: Commenter did not support moving to a complete computer (automated) process, given the vulnerabilities of automated systems and the fact that not everyone has (access to) a computer.

Agency Response to Comment 2: We note the comment and would like to advise the public that paper applications will still be available for manual, mail-in submissions. However, our efforts respond to the Service's need to move to a more efficient electronic process and reduce the burden on the public.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Endangered Species Act (ESA; 16 U.S.C. 1531 et seq.) makes it unlawful to import or export wildlife or wildlife products for commercial purposes without first obtaining an import/export license (see 16 U.S.C. 1538(d)). The ESA also requires that fish or wildlife be imported into or exported from the United States only at a designated port, or at a nondesignated port under certain limited circumstances (see 16 U.S.C. 1538(f)). This information collection includes the following permit/license application forms:

FWS Form 3-200-2, “Designated Port Exception Permit”

Under 50 CFR 14.11, it is unlawful to import or export wildlife or wildlife products at ports other than those designated in 50 CFR 14.12, unless you qualify for an exception. The following exceptions allow qualified individuals, businesses, or scientific organizations to import or export wildlife or wildlife products at a nondesignated port:

(a) To export the wildlife or wildlife products for scientific purposes;

(b) To minimize deterioration or loss; or

(c) To relieve economic hardship.

To request authorization to import or export wildlife or wildlife products at nondesignated ports, applicants must complete FWS Form 3-200-2. Designated port exception permits can be valid for up to 2 years. We may require a permittee to file a report on activities conducted under authority of the permit.

FWS Form 3-200-3a, “Federal Fish and Wildlife Permit Application Form: Import/Export License—U.S. Entities,” and 3-200-3b, “Federal Fish and Wildlife Permit Application Form: Import/Export License—Foreign Entities”

It is unlawful to import or export wildlife or wildlife products for commercial purposes without first obtaining an import/export license (50 CFR 14.91). Applicants located in the United States must complete FWS Form 3-200-3a to request this license. Foreign applicants that reside or are located outside the United States must complete FWS Form 3-200-3b to request this license.

We use the information collected on FWS Forms 3-200-3a and 3-200-3b as an enforcement tool and management aid to (a) monitor the international wildlife market and (b) detect trends and changes in the commercial trade of wildlife and wildlife products. Import/export licenses are valid for up to 1 year. We may require a licensee to file a report on activities conducted under authority of the import/export license.

Proposed Revisions

Automation in eLicense System

With this submission, we also seek OMB approval to automate FWS Forms 3-200-2, “Designated Port Exception Permit” (50 CFR parts 13 and 14); Form 3-200-3a, “Federal Fish and Wildlife Permit Application Form: Import/Export License-U.S. Entities” (50 CFR parts 13 and 14); and Form 3-200-3b, “Federal Fish and Wildlife Permit Application Form: Import/Export License-Foreign Entities” (50 CFR parts 13 and 14) in a new eLicense system. This automation is expected to reduce the burden on the public. The eLicense system will also simplify the application process and give the applicant the ability to pay online through Pay.gov via credit card or direct bank payment. This will reduce the number of applicants requesting multiple licenses for the same business and will reduce the number of incorrect addresses and bounced checks that we receive. In addition, we removed the requirement to provide the dates of birth for U.S. agents on Forms 3-200-2 and 3-200-3b.

Automation in ePermits System

With this submission, we propose a revision to the collection to obtain OMB approval to automate Form 3-200-44, “Permit Application Form: Registration of an Agent/Tannery under the Marine Mammal Protection Act (MMPA),” and Form 3-200-44a, “Registered Agent/Tannery Bi-Annual Inventory Report,” in the Service's “ePermits” system. The ePermits system is an automated permit application system that streamlines the permitting process to reduce public burden. Public burden reduction is a priority for the Service; the Assistant Secretary for Fish, Wildlife, and Parks; and senior leadership at the Department of the Interior. The ePermits system fully automates the permitting process to improve the customer experience and to reduce time burden on respondents. This system also enhances the user experience by allowing users to enter data from any device that has internet access, including PCs, tablets, and smartphones. Furthermore, the system links the permit applicant to the Pay.gov system for payment of any associated permit application fees.

Until we have actual usage data from the eLicense and ePermits systems, we are splitting the previously approved public burden equally between hard copy and electronic submissions (see burden table below). After the forms are operational in the two systems for at least 12-18 months, the Service will have more reliable burden data to submit to OMB in conjunction with the next renewal of this collection.

Title of Collection: Federal Fish and Wildlife Applications and Reports-Law Enforcement; 50 CFR parts 13 and 14.

OMB Control Number: 1018-0092.

Form Number: FWS Forms 3-200-2, 3-200-3a, 3-200-3b, 3-200-44, and 3-200-44a.

Type of Review: Revision of a currently approved collection.

Respondents/Affected Public: Individuals, private sector, and State/local/Tribal entities.

Respondent's Obligation: Required to obtain or retain a benefit.

Frequency of Collection: On occasion for Forms 3-200-2, 3-200-3a, 3-200-3b, 3-200-44, and reporting requirements and biannually for Form 3-200-44a.

Total Estimated Annual Nonhour Burden Cost: $1,188,700. There is a $100 fee associated with applications (Forms 3-200-2, 3-200-3a and 3-200-3b) and a $150 fee associated with application (Form 3-200-44) received from individuals and the private sector. There is no fee for applications from government agencies or for processing reports.

Activity/requirement | Estimated number of annual respondents | Estimated number of annual responses | Total estimated annual responses | Completion time per response (hours) | Estimated total annual burden hours *
FWS Form 3-200-2, “Designated Port Exception Permit” (50 CFR parts 13 and 14) (Hardcopy)
Individuals | 289 | 1 | 289 | 1.25 | 361
Private Sector | 361 | 1 | 361 | 1.25 | 451
Government | 7 | 1 | 7 | 1.25 | 9
FWS Form 3-200-2, “Designated Port Exception Permit” (50 CFR parts 13 and 14) (eLicense)
Individuals | 289 | 1 | 289 | 1 | 289
Private Sector | 361 | 1 | 361 | 1 | 361
Government | 7 | 1 | 7 | 1 | 7
FWS Form 3-200-3a, “Federal Fish and Wildlife Permit Application Form: Import/Export License-U.S. Entities” (50 CFR parts 13 and 14) (Hardcopy)
Private Sector | 5,099 | 1 | 5,099 | 1.25 | 6,374
FWS Form 3-200-3a, “Federal Fish and Wildlife Permit Application Form: Import/Export License-U.S. Entities” (50 CFR parts 13 and 14) (eLicense)
Private Sector | 5,099 | 1 | 5,099 | 1 | 5,099
FWS Form 3-200-3b, “Federal Fish and Wildlife Permit Application Form: Import/Export License-Foreign Entities” (50 CFR parts 13 and 14) (Hardcopy)
Private Sector | 190 | 1 | 190 | 1.25 | 238
FWS Form 3-200-3b, “Federal Fish and Wildlife Permit Application Form: Import/Export License-Foreign Entities” (50 CFR parts 13 and 14) (eLicense)
Private Sector | 190 | 1 | 190 | 1 | 190
Designated Port Exception Permit Report (50 CFR parts 13 and 14)
Private Sector | 5 | 1 | 5 | 1 | 5
Import/Export License Report (50 CFR parts 13 and 14)
Private Sector | 10 | 1 | 10 | 1 | 10
FWS Forms 3-200-44, “Permit Application Form: Registration of an Agent/Tannery under the Marine Mammal Protection Act (MMPA)” (Hardcopy)
Private Sector | 3 | 1 | 3 | .3 | 1
FWS Forms 3-200-44, “Permit Application Form: Registration of an Agent/Tannery under the Marine Mammal Protection Act (MMPA)” (ePermits)
Private Sector | 3 | 1 | 3 | .25 | 1
FWS Form 3-200-44a, “Registered Agent/Tannery Bi-Annual Inventory Report” (Hardcopy)
Private Sector | 10 | 2 | 20 | 1 | 20
FWS Form 3-200-44a, “Registered Agent/Tannery Bi-Annual Inventory Report” (ePermits)
Private Sector | 10 | 2 | 20 | .75 | 15
Total: | 11,933 |  | 11,953 |  | 13,431
* Rounded to Match ROCIS.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2022-03313 Filed 2-15-22; 8:45 am]

BILLING CODE 4333-15-P